DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended. The Department is providing notice of a proposed subsequent arrangement under the Agreement for Cooperation Concerning Civil Uses of Nuclear Energy Between the Government of the United States of America and the Government of Canada and the Agreement for Cooperation in the Peaceful Uses of Nuclear Energy Between the United States of America and the European Atomic Energy Community.

DATES: This subsequent arrangement will take effect no sooner than April 2, 2014.

FOR FURTHER INFORMATION CONTACT: Ms. Katie Strangis, Office of Nonproliferation and International Security, National Nuclear Security Administration, Department of Energy. Telephone: 202-586-8623 or email: Katie.Strangis@nnsa.doe.gov.

SUPPLEMENTARY INFORMATION: This subsequent arrangement concerns the retransfer of 171,561.2 l kg of U.S.-origin natural uranium hexafluoride (UF6) (67.60% U), 115,975.4 kg of which is uranium, from Cameco Corporation (Cameco) in Port Hope, Ontario, Canada, to Urenco, Ltd. (URENCO) in Capenhurst Works, Chester, United Kingdom. The material, which is currently located at Cameco, will be used for toll enrichment by URENCO at its facility in Capenhurst, United Kingdom. The material was originally obtained by Cameco from Power Resources Inc., Cameco Resources-Crowe Butte Operation, and White Mesa Mill pursuant to export license XSOU8798.

In accordance with section 131a. of the Atomic Energy Act of 1954, as amended, it has been determined that this subsequent arrangement concerning the retransfer of nuclear material of United States origin will not be inimical to the common defense and security of the United States of America.

Dated: February 21, 2014.
For the Department of Energy.
Anne M. Harrington,
Deputy Administrator, Defense Nuclear Nonproliferation.

[FR Doc. 2014-05953 Filed 3-17-14; 8:45 am]

BILLING CODE 6450-01-P